DEPARTMENT OF HEALTH AND HUMAN SERVICES

Centers for Disease Control and Prevention

[30DAY-47-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: Evaluation of Viral Hepatitis B Educational Slide Materials—New—National Center for Infectious Disease (NCID), Centers for Disease Control and Prevention (CDC). The purpose of the proposed study is to assess the usefulness of the Hepatitis B and You, an educational slide set located on the website of the Hepatitis Branch, NCID, CDC. The Hepatitis B and You educational slide set is used to educate persons about hepatitis B in general and more specifically the importance of hepatitis B vaccination to prevent perinatal transmission of hepatitis B virus (HBV). An estimated 1.25 million Americans are chronically infected with HBV and 4,000 to 5,000 die each year due to resultant cirrhosis and liver cancer. The estimated cost associated with HBV infections is $700 million a year in medical care and lost work days. The annualized total burden is 414 hours.

Form name | Number of respondents | Number of responses per respondent | Avg. buden per response (in hours)
Web | 1656 | 1 | 15/60

Dated: September 24, 2001.
Nancy E. Cheal,
Acting Associate Director for Policy, Planning, and Evaluation, Centers for Disease Control and Prevention (CDC).

[FR Doc. 01-24437 Filed 9-28-01; 8:45 am]

BILLING CODE 4163-18-P